DEPARTMENT OF TRANSPORTATION

Federal Aviation Administration

Notification of Pilot-in-Command; Notice of Public Meeting

AGENCY: Federal Aviation Administration (FAA), DOT.

ACTION: Notice of public meeting.

SUMMARY: The FAA's Office of Hazardous Materials and the Pipeline and Hazardous Materials Safety Administration's (PHMSA) Office of Hazardous Materials Safety announce a public meeting on March 11, 2011 to hear comments and gather information regarding Notification to Pilot in Command (NOPICs) (see 49 CFR 175.33 and ICAO TI 7;4.1). The International Civil Aviation Organization's (ICAO) Dangerous Goods Panel has begun to examine this issue and consider the informational needs of those who rely on this document. Statements by interested parties will be considered as the U.S. develops its position on this issue.

DATES: The public meeting will be held on March 11, 2011 from 9 a.m. until 3:30 p.m. Web-conferencing capabilities will be provided. The agenda for the meeting will be as follows:

• 8:30 a.m. to 9 a.m.: Sign-in

• 9 a.m. to 10 a.m.: FAA Air Traffic Control Organization Briefing on the Flight Object Initiative.

• 10 a.m. to 12 p.m.: Statements and information from air carriers and their representatives.

• 12 p.m. to 12:30 p.m.: Break

• 12:30 p.m. to 1:30 p.m.: Statements and information from airline pilots and their representatives.

• 1:30 a.m. to 2:30 p.m.: Statements and information from emergency responders and their representatives.

• 2:30 p.m. to 3:30 p.m.: Statements and information from airports, air traffic controllers, stakeholders not referenced above, as well as those unable to speak in their designated time frame.

The deadline to register for the meeting, submit a request to make an oral statement and/or participate via web-conferencing is March 4, 2011. All participants are requested to register at the following Web site: https://spreadsheets.google.com/viewform?formkey=dExRVGF5WmtOSzZuZWxBSTdBQ2VCR1E6MQ.

Specific information will be provided on how to participate via web-conferencing upon registration to FAA.

ADDRESSES: The March 11, 2011, public meeting will be held at FAA Headquarters (FOB 10A), Bessie Coleman Conference Center, 2nd Floor, 800 Independence Avenue, SW., Washington, DC. For questions or directions, please call the FAA's Office of Hazardous Materials, (202) 385-4900.

FOR FURTHER INFORMATION CONTACT: Questions regarding the meeting should be directed to Ms. Janet McLaughlin, Division Manager, Office of Hazardous Materials, International and Outreach Division, ADG-200, Federal Aviation Administration, 800 Independence Avenue, SW, Washington, DC 20591; telephone (202) 385-4900. E-mail: 9-AWA-ASH-ADG-HazMat@faa.gov.

We are committed to providing equal access to this meeting for all participants. If you need alternative formats or other reasonable accommodations, please call (202) 385-4900 or e-mail: 9-AWA-ASH-ADG-HazMat@faa.gov with your request by close of business March 4, 2011.

SUPPLEMENTARY INFORMATION:

Purpose of the Public Meeting

The purpose of the public meeting is for the FAA and PHMSA to hear the public's views and obtain relevant information on the Notification to Pilot in Command (NOPIC), also referred to as Notification to Capitan (NOTOC), processes described in 49 CFR 175.33. The United States is in the process of formulating a position that will be offered as the International Civil Aviation Organization's Dangerous Goods Panel considers revisions to this document.¹

¹ Corresponding, but non-identical requirements for NOTOCs can be found in Part7;4.1 of the ICAO Technical Instructions for the Safe Transport of Dangerous Goods by Air (ICAO TI). The Department of Transportation has a history and statutory mandate to harmonize with the ICAO TI when safety considerations and the public interest are not compromised. 49 USC 5120(b).

The FAA and PHMSA are interested in acquiring a comprehensive understanding of the entire NOTOC system. Participants are encouraged to address the following issues:

Processes

• While recognizing variance between air carriers, what are the process(es) leading to the generation of the NOTOC and its delivery to the pilot in command?

• What are the processes involved in providing emergency responders the information they require?

What are each stakeholder's unique informational needs?

• When an onboard incident/emergency occurs not caused by or immediately associated with hazardous materials how does (or how could) the information on the NOTOC impact a pilot's reaction? How does this compare to when hazardous materials are the suspected cause of an onboard incident?

• Are there notable instances where the presence of information or lack of information impacted an air carrier's, pilot's, or emergency responder's course of action?

• Should there be a distinction (i.e. format or information included) between passenger and cargo-only air carriers?

General Questions

• For hazardous materials required to be listed on NOTOCs, is there additional information that would be useful? Is there certain information extraneous to NOTOC users?

• Are there certain excepted hazardous materials not currently required to be on a NOTOC that should be included on the NOTOC? Are there hazardous materials currently required to be on the NOTOC that may not need to be included?

• Can the format of the NOTOC be improved? Should different versions be considered for different users?

• Should consumer commodities be addressed in an alternative manner?

When the NOTOC is provided to Flight Crews

• 49 CFR 175.33(a) requires “accurate and legible written information” be provided to pilots in command, “as early as practicable before departure of the aircraft”. The FAA and PHMSA are interested in investigating if current airline processes afford sufficient time for pilots in command to review the NOTOC, particularly taking into account the extensive demands of an aircrew prior to departure. How do airlines implement this policy and how can it be improved?

When the NOTOC is provided to Emergency Responders

• 49 CFR 175.33(c)(3) requires NOTOCs to be readily accessible at the intended arrival airport. 49 CFR 175.33(c)(4) requires NOTOCs (or the information contained within NOTOC's) to be issued to emergency responders at reasonable times and locations. The FAA, PHMSA, and relevant stakeholders are well aware of instances of unacceptable delay in providing required information to emergency responders. What improvements to this process have been made or are being considered? How are airlines considering leveraging new technologies where someday even “unintended” arrival airports would be aware of an aircraft's hazardous materials?

Participation at the Public Meetings

Attendance is open to the public. Speakers should be prepared to limit their oral remarks to 10 minutes in the event the number of speakers exceeds the time allocated in the agenda.

Public Meeting Procedures

A panel of representatives from the FAA and PHMSA will be present. An FAA representative will facilitate the meetings in accordance with the following procedures:

(1) The meetings are designed to facilitate the public comment process. The meetings will be informal and non-adversarial. No individual will be subject to questioning by any other participant. Government representatives on the panel may ask questions to clarify statements. Any statement made during the meetings by a panel member should not be construed as an official position of the government.

a. One exception is that, time permitting, attendees may be allowed to ask questions following the FAA Air Traffic Control Organization's Briefing on the Flight Object Initiative.

(2) There will be no admission fees or other charges to attend or to participate in the public meeting. The meeting will be open to all persons, subject to the capacity in the meeting room and the web-conferencing system. Every effort will be made to accommodate all persons wishing to attend. The FAA and PHMSA will try to accommodate all speakers, subject to time constraints. The FAA and PHMSA reserve the right to exclude some speakers, if necessary, to obtain balanced viewpoints.

(1) The FAA and PHMSA will review and consider all material presented by participants at the public meeting. If the speaker wishes to provide handouts to attendees, these materials shall be provided by speaker.

(2) Presentations, supplemental data, and other information may be provided to FAA and PHMSA at the discretion of the participant.

(3) Each person presenting comments is asked to submit data to support the comments. The FAA and PHMSA will protect from disclosure all proprietary data submitted in accordance with applicable laws.

Issued in Washington, DC, on February 18, 2011.
Christopher Glasow,
Director, Office of Hazardous Materials.

[FR Doc. 2011-4237 Filed 2-28-11; 8:45 am]

BILLING CODE 4910-13-P